FEDERAL COMMUNICATIONS COMMISSION

47 CFR Part 25

[ET Docket No. 98-206; FCC 03-97]

Order to Deny Petitions for Reconsideration of MVDDS Technical and Licensing Rules in the 12 GHz Band

AGENCY: Federal Communications Commission.

ACTION: Final rule; announcement of effective date.

SUMMARY: In this document, the Commission announces that the Office of Management and Budget (OMB) has approved, for a period of three years, the information collection requirements associated with § 25.146 of the Commission's rules, and that this rule will take effect as of the date of this document. On July 25, 2003, the Commission published the summary document of the Fourth Memorandum Opinion and Order, In the Matter of Amendment of Parts 2 and 25 of the Commission's Rules to Permit Operation of NGSO FSS Systems Co-Frequency with GSO and Terrestrial Systems in the Ku-Band Frequency Range; Amendment of the Commission's Rules to Authorize Subsidiary Terrestrial Use of the 12.2-12.7 GHz Band by Direct Broadcast Satellite Licensees and Their Affiliates; and Applications of Broadwave USA, PDC Broadband Corporation and Satellite Receivers, Ltd. To Provide a Fixed Service in the 12.2-12.7 GHz Band, ET Docket No. 98-206, FCC 03-97, at 68 FR 43942. This published item stated that the Commission will publish a document in the Federal Register announcing when OMB approval for the rule section which contains information collection requirements has been received and when the revised rule will take effect. This document is consistent with the statement in the published summary document of the Fourth Memorandum Opinion and Order.

DATES: The amendments to § 25.146 published at 68 FR 43946, July 25, 2003 are effective on March 24, 2010.

FOR FURTHER INFORMATION CONTACT: Cathy Williams on (202) 418-2918 or send an email to: Cathy.Williams@fcc.gov.

SUPPLEMENTARY INFORMATION: This document announces that, on August 13, 2003, OMB approved, for a period of three years, the information collection requirements contained in § 25.146 of the Commission's rules. The Commission publishes this document to announce that § 25.146 published at 68 FR 43942, July 25, 2003 is effective on the date of publication of this document in the Federal Register. If you have any comments on the burden estimates, or how the Commission can improve the collections and reduce any burdens caused thereby, please contact Cathy Williams, Federal Communications Commission, Room 1-C823, 445 12th Street, SW., Washington, DC 20554. Please include OMB Control Number 3060-1014 in your correspondence. The Commission also will accept your comments via the Internet if you send them to PRA@fcc.gov. To request materials in accessible formats for people with disabilities (Braille, large print, electronic files, audio format), send an e-mail to fcc504@fcc.gov or call the Consumer & Governmental Affairs Bureau at (202)418-0530 (voice), (202) 418-0432 (TTY).

Federal Communications Commission.
Marlene H. Dortch,
Secretary, Office of the Secretary, Office of Managing Director.

[FR Doc. 2010-6450 Filed 3-23-10; 8:45 am]

BILLING CODE 6712-01-S